DEPARTMENT OF COMMERCE

International Trade Administration

[C-570-134]

Certain Metal Lockers and Parts Thereof From the People's Republic of China: Final Results and Final Rescission, in Part, of Countervailing Duty Administrative Review; 2022

AGENCY: Enforcement and Compliance, International Trade Administration, Department of Commerce.

SUMMARY: The U.S. Department of Commerce (Commerce) determines that countervailable subsidies were provided to producers and exporters of certain metal lockers and parts thereof (metal lockers) from the People's Republic of China (China). The period of review (POR) is January 1, 2022, through December 31, 2022. In addition, Commerce is rescinding this review, in part, with respect to four companies.

DATES: Applicable June 13, 2025.

FOR FURTHER INFORMATION CONTACT: Alex Cipolla or Laura Delgado, AD/CVD Operations, Office III, Enforcement and Compliance, International Trade Administration, U.S. Department of Commerce, 1401 Constitution Avenue NW, Washington, DC 20230; telephone: (202) 482-4956 or (202) 482-1468, respectively.

SUPPLEMENTARY INFORMATION:

Background

On September 12, 2024, Commerce published the Preliminary Results of this administrative review in the Federal Register and invited comments from interested parties.¹ On December 9, 2024, Commerce tolled the deadline to issue the final results in this administrative review by 90 days.² On April 2, 2025, Commerce extended the deadline of the final results of this administrative review to May 9, 2025.³ On May 7, 2025, Commerce further extended the deadline for the final results of this administrative review to June 6, 2025.⁴ For a complete description of the events that occurred since the Preliminary Results, see the Issues and Decision Memorandum.⁵

¹ See Certain Metal Lockers and Parts Thereof from the People's Republic of China: Preliminary Results and Intent to Rescind, in Part, of Countervailing Duty Administrative Review; 2022, 89 FR 74204 (September 12, 2024) (Preliminary Results), and accompanying Preliminary Decision Memorandum (PDM).

² See Memorandum, “Tolling of Deadlines for Antidumping and Countervailing Duty Proceedings,” dated December 4, 2024.

³ See Memorandum, “Extension of Deadline for Final Results of Countervailing Duty Administrative Review,” dated April 2, 2025.

⁴ See Memorandum, “Extension of Deadline for Final Results of Countervailing Duty Administrative Review,” dated May 7, 2025.

⁵ See Memorandum, “Issues and Decision Memorandum for the Final Results of the Countervailing Duty Administrative Review of Certain Metal Lockers and Parts Thereof from the People's Republic of China; 2022,” dated concurrently with, and hereby adopted by, this notice (Issues and Decision Memorandum).

Scope of the Order

The products covered by the Order are metal lockers from China. For a complete description of the scope of the Order, see the Issues and Decision Memorandum.

Analysis of Comments Received

All issues raised by the interested parties in their case and rebuttal briefs are addressed in the Issues and Decision Memorandum. A list of topics discussed in the Issues and Decision Memorandum is provided in Appendix I to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on our analysis of comments from interested parties and the evidence on the record, we revised the net countervailable subsidy rate for Hangzhou Evernew Machinery and Equipment Company Limited (Hangzhou Evernew) and its cross-owned producer. In addition, we have also revised the rate applicable to companies not selected for individual review. For a discussion of these changes, see the Issues and Decision Memorandum.

Methodology

Commerce conducted this administrative review in accordance with section 751(a)(1)(A) of the Tariff Act of 1930, as amended (the Act). For each of the subsidy programs found to be countervailable, we find that there is a subsidy, i.e., a government-provided financial contribution that gives rise to a benefit to the recipient, and that the subsidy is specific.⁶ For a complete description of the methodology underlying all of Commerce's conclusions, including our reliance, on facts otherwise available, including adverse facts available (AFA), pursuant to sections 776(a) and (b) of the Act, see the Issues and Decision Memorandum.

⁶ See sections 771(5)(B) and (D) of the Act regarding financial contribution; section 771(5)(E) of the Act regarding benefit; and section 771(5A) of the Act regarding specificity.

Rescission of Administrative Review, In Part

Pursuant to 19 CFR 351.213(d)(3), Commerce will rescind an administrative review when there are no reviewable suspended entries. Based on our analysis of U.S. Customs and Border Protection (CBP) information, we determine that Kunshan Dongchu Precision Machinery Co., Ltd., Pingchu Chenda Storage Office Co., Ltd., Tianjin Jia Mei Metal Furniture Ltd., and Zhejiang Xingyi Metal Products Co., Ltd., had no entries of subject merchandise during the POR. In the Preliminary Results, we notified parties that we intended to rescind this administrative review with respect to the four companies which have no reviewable suspended entries.⁷ No parties commented on the notification of intent to rescind the review, in part. We are, therefore, now rescinding the administrative review of these companies which have no reviewable suspended entries.

⁷ See Preliminary Results, 89 FR at 74205.

Companies Not Selected for Individual Review

The statute and Commerce's regulations do not directly address the establishment of rates to be applied to companies not selected for individual examination where Commerce limits its examination in an administrative review pursuant to section 777A(e)(2) of the Act. However, Commerce normally determines the rates for non-selected companies in reviews in a manner that is consistent with section 705(c)(5) of the Act, which provides the basis for calculating the all-others rate in an investigation. Section 705(c)(5)(A)(i) of the Act instructs Commerce, as a general rule, to calculate an all-others rate equal to the weighted average of the countervailable subsidy rates established for exporters and/or producers individually examined, excluding any rates that are zero, de minimis, or based entirely on facts available.

There are two companies for which a review was requested and not rescinded, and which were not selected as mandatory respondents or found to be cross-owned with a mandatory respondent: Hangzhou Xline Machinery & Equipment Co., Ltd.⁸ and Jiangsu Wanlong Special Containers Co., Ltd. We made changes to the calculations for the mandatory respondent Hangzhou Evernew and its cross-owned producer, which provided part of the rate assigned to the non-selected companies for the Preliminary Results. Because Hangzhou Evernew's rate is now based on total AFA, the rate for the two companies not selected for individual examination will be solely based on the subsidy rate for the cooperating mandatory respondent, Xingyi Metalworking.

⁸ We initiated a review of both Hangzhou Xline Machinery and Hangzhou Xline Machinery & Equipment Co., Ltd. We preliminarily determined that these are two names for the same company, and thus, assigned the non-selected rate to the full name of the company, Hangzhou Xline Machinery & Equipment Co., Ltd. No party provided comment in opposition to this preliminary determination; therefore, we continue to assign the non-selected rate to the full name of the company, Hangzhou Xline Machinery & Equipment Co., Ltd.

Final Results of Review

As a result of this review, we determine the following net countervailable subsidy rates exist for the POR, January 1, 2022, through December 31, 2022:

Company | Subsidy rate (percent ad valorem)
Hangzhou Evernew Machinery & Equipment Company ⁹ | 220.95
Xingyi Metalworking Technology (Zhejiang) Co., Ltd | 22.82
Hangzhou Xline Machinery & Equipment Co., Ltd | 22.82
Jiangsu Wanlong Special Containers Co., Ltd | 22.82

Disclosure

⁹ As discussed in the Issues and Decision Memorandum, Commerce has found the following company to be cross-owned with Hangzhou Evernew: Zhejiang Yinghong Metalware Co., Ltd.

Commerce intends to disclose calculations and analysis performed for the final results of review within five days after the date of publication of this notice in the Federal Register in accordance with 19 CFR 351.224(b).

Cash Deposit Requirements

In accordance with section 751(a)(1) of the Act, Commerce also intends to instruct U.S. Customs and Border Protection (CBP) to collect cash deposits of estimated countervailing duties in the amounts shown above for the above-listed companies with regard to shipments of subject merchandise entered, or withdrawn from warehouse, for consumption on or after the date of publication of these final results of review. For all non-reviewed firms, we will instruct CBP to continue to collect cash deposits of estimated countervailing duties at the all-others rate or the most recent company-specific rate applicable to the company, as appropriate. These cash deposit requirements, effective upon publication of these final results, shall remain in effect until further notice.

Assessment

In accordance with section 751(a)(2)(C) of the Act and 19 CFR 351.212(b)(2), Commerce has determined, and CBP shall assess, countervailing duties on all appropriate entries covered by this review, for the above-listed companies at the applicable ad valorem assessment rates listed. For the companies for which we rescinded this review, Commerce will instruct CBP to assess countervailing duties on all appropriate entries at a rate equal to the cash deposit of estimated countervailing duties required at the time of entry, or withdrawal from warehouse, for consumption, during the period January 1, 2022, through December 31, 2022. Commerce intends to issue assessment instructions to CBP no earlier than 35 days after publication of the final results of this review in the Federal Register. If a timely summons is filed at the U.S. Court of International Trade, the assessment instructions will direct CBP not to liquidate relevant entries until the time for parties to file a request for a statutory injunction has expired (i.e., within 90 days of publication).

Administrative Protective Order

This notice also serves as a final reminder to parties subject to an administrative protective order (APO) of their responsibility concerning the disposition of proprietary information disclosed under APO in accordance with 19 CFR 351.305(a)(3). Timely written notification of the return or destruction of APO materials or conversion to judicial protective order, is hereby requested. Failure to comply with the regulations and terms of an APO is a sanctionable violation.

Notification to Interested Parties

The final results are issued and published in accordance with sections 751(a)(1) and 777(i)(1) of the Act and 19 CFR 351.221(b)(5).

Dated: June 6, 2025.
Steven Presing,
Acting Deputy Assistant Secretary for Policy and Negotiations.

Appendix I

List of Topics Discussed in the Issues and Decision Memorandum

I. Summary

II. Background

III. Scope of the Order

IV. Use of Facts Otherwise Available and Application of Adverse Inferences

V. Subsidies Valuation

VI. Analysis of Programs

VII. Discussion of the Issues

Comment 1: Whether Commerce Should Apply Total AFA to Hangzhou Evernew

Comment 2: Whether Commerce Should Use Hangzhou Evernew's Actual Transportation Expenses as the Inland Freight Benchmark

Comment 3: Whether Commerce Should Combine Sales of Hangzhou Evernew and Zhejiang Yinghong

Comment 4: Whether Commerce Should Correct the Tax Return Year Used in Commerce's Calculations for Hangzhou Evernew and Zhejiang Yinghong's Tax Subsidy Programs

VIII. Recommendation

Appendix: AFA Rate Calculation

[FR Doc. 2025-10735 Filed 6-12-25; 8:45 am]

BILLING CODE 3510-DS-P